SECURITIES AND EXCHANGE COMMISSION

Sunshine Act Meeting

Notice is hereby given, pursuant to the provisions of the Government in the Sunshine Act, Public Law 94-409, that the Securities and Exchange Commission will hold an Open Meeting on July 14, 2011 at 10.m., in the Auditorium, Room L-002, to hear oral argument in an appeal by Comverse Technology, Inc. from an initial decision of an administrative law judge.

Comverse is a New York corporation that provides a variety of services in the telecommunications industry through its subsidiaries. Comverse's common stock is registered with the Commission pursuant to Section 12(g) of the Securities Exchange Act of 1934.

On July 22, 2010, the law judge issued his decision finding that Comverse had violated Securities Exchange Act Section 13(a) and Exchange Act Rules 13a-1 and 13a-13 by failing to file quarterly and annual reports for any period after October 31, 2005. The law judge revoked the registration of Comverse's common stock. Subsequent to the issuance of the law judge's decision, Comverse has filed certain annual and quarterly reports.

Comverse does not appeal the law judge's findings of violation but, rather, the law judge's determination to revoke its registration. Exchange Act Section 12(j) authorizes sanctions, including revocation, for reporting violations where it is “necessary or appropriate for the protection of investors.” Issues likely to be considered at oral argument include the extent to which, under the circumstances, sanctions are warranted.

Commissioner Paredes, as duty officer, determined that no earlier notice thereof was possible.

For further information, please contact the Office of the Secretary at (202) 551-5400.

At times, changes in Commission priorities require alterations in the scheduling of meeting items.

July 12, 2011.
Elizabeth M. Murphy,
Secretary.

[FR Doc. 2011-17855 Filed 7-12-11; 4:15 pm]

BILLING CODE 8011-01-P